NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for Materials Research—Materials Research Science and Engineering Center Site Visit, Penn State University (#1203).

Date and Time: April 22, 2018; 7:00 p.m.-9:00 p.m.; April 23, 2018; 7:15 a.m.-8:30 p.m.; April 24, 2018: 8:00 a.m.-4:30 p.m.

Place: Penn State University, 201 Old Main, University Park, PA 16802-1294.

Type of Meeting: Part-open.

Contact Person: Dr. Daniele Finotello, Program Director, Materials Research Science and Engineering Center, MRSEC. Division of Materials Research, Room E 9475, National Science Foundation, 2415 Eisenhower Avenue, Alexandria, VA 22314; Telephone (703) 292-4676.

Purpose of Meeting: NSF site visit to provide advice and recommendations concerning further NSF support for the Center.

Agenda:

Start | End | Agenda
Day 1, Sunday, April 22, 2018
7:00 p.m | 9:00 p.m | Briefing of Site Visit Team by NSF (CLOSED).
Day 2, Monday, April 23, 2018
7:15 a.m | 7:55 a.m | Continental Breakfast with MRSEC Participants.
7:55 a.m | 8:00 a.m | Break and, If Needed, Equipment Setup/Team Introduction.
8:00 a.m | 8:45 a.m | Director's Overview.
8:45 a.m | 8:55 a.m | Discussion.
8:55 a.m | 9:35 a.m | IRG-1.
9:35 a.m | 9:45 a.m | Discussion.
9:45 a.m | 10:00 a.m | Break.
10:00 a.m | 10:40 a.m | IRG-2.
10:40 a.m | 10:50 a.m | Discussion.
10:50 a.m | 11:30 a.m | IRG-3.
11:30 a.m | 11:40 a.m | Discussion.
11:40 a.m | 12:20 p.m | IRG-4.
12:20 p.m | 12:30 p.m | Discussion.
12:30 p.m | 1:25 p.m | Lunch—Site Visit Team, NSF and Students/Post Docs.
1:25 p.m | 1:50 p.m | Executive Session for Site Visit Team and NSF only (CLOSED).
1:50 p.m | 2:05 p.m | Seeds.
2:05 p.m | 2:10 p.m | Discussion.
2:10 p.m | 2:55 p.m | Education and Outreach, Diversity Plan.
2:55 p.m | 3:05 p.m | Discussion.
3:05 p.m | 3:25 p.m | Industrial Outreach and Other Collaborations.
3:25 p.m | 3:30 p.m | Discussion.
3:30 p.m | 3:45 p.m | Break.
3:45 p.m | 5:00 p.m | Poster Session.
5:00 p.m | 6:30 p.m | Executive Session of Site Visit Team and NSF only: Prepare Questions (CLOSED).
6:30 p.m | 6:45 p.m | Site Visit Team Meets with MRSEC Director and Executive Committee.
7:00 p.m | 8:30 p.m | Dinner Meeting for Site Visit Team and NSF only (CLOSED).
Day 3, Tuesday, April 24, 2018
8:00 a.m | 9:00 a.m | Executive Session—Director's Response/Continental Breakfast.
9:00 a.m | 10:00 a.m | Facilities Overview and Lab Tour.
10:00 a.m | 10:10 a.m | Break.
10:10 a.m | 11:00 a.m | Executive Session of Site Visit Team (CLOSED).
11:00 a.m | 11:20 a.m | Executive Session—Meeting with University Administrators.
11:20 a.m | 11:40 a.m | Executive Session of Site Visit Team (CLOSED).
11:40 a.m | 12:00 p.m | Discussion with MRSEC Director and Executive Committee (if needed).
12:00 p.m | 4:15 p.m | Executive Session of Site Visit Team—Report Writing (working lunch) (CLOSED).
4:15 p.m | 4:30 p.m | Debriefing with MRSEC Director and Executive Committee.
4:30 p.m |  | End of the Site Visit.

Reason for Closing: The work being reviewed during closed portions of the site visit include information of a proprietary or confidential nature, including technical information; financial data, such as salaries and personal information concerning individuals associated with the program. These matters are exempt under 5 U.S.C. 552b(c), (4) and (6) of the Government in the Sunshine Act.

Dated: March 19, 2018.
Crystal Robinson,
Committee Management Officer.

[FR Doc. 2018-05824 Filed 3-21-18; 8:45 am]

BILLING CODE 7555-01-P